DEPARTMENT OF HEALTH AND HUMAN SERVICES

Centers for Disease Control and Prevention

[30Day-12-11JD]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7570 or send an email to omb@cdc.gov. Send written comments to CDC Desk Officer, Office of Management and Budget, Washington, DC 20503 or by fax to (202) 395-5806. Written comments should be received within 30 days of this notice.

Proposed Project

Evaluation of Dating Matters: Strategies to Promote Healthy Teen Relationships™—New—National Center for Injury Prevention and Control—Centers for Disease Control and Prevention.

Background and Brief Description

Dating Matters: Strategies to Promote Healthy Teen Relationships™ is the Centers for Disease Control and Prevention's new teen dating violence prevention initiative.

Recently, efforts to prevent teen dating violence (TDV) have grown, particularly in schools, among policymakers, and among sexual violence and domestic violence coalitions. Now many states and communities also are working to stop teen dating violence. However, these activities vary greatly in quality and effectiveness. To address the gaps, CDC has developed Dating Matters, a teen dating violence prevention program that includes programming for students, parents, educators, as well as policy development. Dating Matters is based on the current evidence about what works in prevention and focuses on high-risk, urban communities where participants include: Middle school students age 11 to 14 years; middle school parents; brand ambassadors; educators; school leadership; program implementers; community representatives; and local health department representatives in the following communities: Alameda County, California; Baltimore, Maryland; Broward County, Florida; and Chicago, Illinois.

The primary goal of the current proposal is to conduct an outcome and implementation evaluation of Dating Matters in the four metropolitan cities to determine its feasibility, cost, and effectiveness. In the evaluation a standard model of TDV prevention (Safe Dates administered in 8th grade) will be compared to a comprehensive model (programs administered in 6th, 7th, and 8th grade as well as parent, educator, policy, and communications interventions).

Burden estimates are based on the following information:

• Number of communities/sites: 4

• Number of schools across 4 communities/sites: 44 (12 in 3 communities, 8 in 1 community)

• Number of students in each middle school: 600 (200 per grade)

• Number of school staff in each school: 40

• Number of schools implementing the standard model of TDV prevention: 22 (across 4 sites/communities)

• Number of schools implementing the comprehensive model of TDV prevention: 22 (across 4 sites/communities)

Population. The study population includes students in 6th, 7th and 8th grades at 44 schools in the four participating sites. At most, schools are expected to have 6 classrooms per grade, with an average of 30 students per classroom yielding a population of 23,760 students (44 schools * 3 grades * 6 classrooms per grade * 30 students per classroom).

The sampling frame for parents, given that we would only include one parent per student, is also 23,760 for the three years of data collection covered by this package. Based on our research and consultation with middle schools, most schools with 600 students have approximately 40 staff. If we assume 40 educators per school, the sampling frame for the educator sample is 1,760.

The following are explanations of estimated burden by respondent:

Students: The study will survey samples of classrooms from all three middle school grade levels in the 44 schools, annually over a 4 year data collection period (see Figure 2). (Please note that we recognize that our OMB approval will expire after 3 years and we will submit a new package at that time so that the life of the project is approved.) In each year of data collection, we will recruit 30 students per classroom * a sample of 4 classrooms per grade * 3 grades * 44 schools, resulting in a student sample of 15,840. We assume a 95% participation rate (n = 15,048) for the baseline student survey (due to students being absent and parents not providing consent for student participation). Because this is a longitudinal data collection, the mid-term and follow-up surveys will lose some students due to attrition (e.g., students absent; students move out of district; parents withdraw permission). At mid-term, we assume a retention rate of 92.5% of the 15,840 students (n = 14,652), and at follow-up (at the end of the school year), we assume a retention rate of 90% of the 15,840 students (n = 14,256).

Parents: We will recruit parents of 17% of the student sample (15,840) inclusive of parents participating in the parent curricula, and those who choose not to participate in the parent curricula, from both the Dating Matters schools and the standard-of-care schools. We will recruit a sample of 17% of eligible parents per grade per school for a total of 2,693 parents. Assuming 90% of the 2,693 parents agree to participate at baseline (n = 2,424) and we retain 90% of participating parents from baseline, we will have a final follow-up sample of 2,181 parents.

Educators: We will attempt to recruit all educators in each school (44 schools * 40 educators per school = 1,760), who are assumed to stay in their positions over the study period (in contrast to the cohorts of students moving through the school). We expect a 90% participation rate for an estimated sample of 1,584 educators.

School data extractors: We will attempt to recruit one data extractor per 44 schools to extract school data to be used in conjunction with the outcome data for the students. Individual level school data will only be collected for students participating in the evaluation, so this data will reflect the same sampling frame as the student survey data. As a result, the data extractors in each school will access individual school-level data for those students in their school who consented and participated in the baseline student survey (3 * 4 * 30 * 95% = 342).

For the student focus groups, the contractor will work with teachers and principals to construct how students are selected and grouped together, resulting in groups of 10 students per group. Two groups will be held per each of the 4 sites (10 × 2 × 4 = 80 total student participants) moderated in a uniform manner according to the student focus group guide (Attachment ZZ).

Student implementer focus groups will be organized by site (moderated according to guidance in Attachments AAA and BBB), with two annual focus groups per site with 10 implementers in each group (10 × 2 × 4 = 80 total student program implementer participants).

Parent program implementer focus groups will be organized by site (moderated according to guidance in Attachments AAA and BBB), with two annual focus groups per site with 10 implementers in each group (10 × 2 × 4 = 80 total parent program implementer participants).

School leadership: based on the predicted number of one school leadership (e.g., principal, vice principal) per comprehensive school (22 schools), the number of respondents will be 22.

Local Health Department representative: based on the predicted number of four communities/sites and four local health department representatives working on Dating Matters per community, the number of respondents will be 16.

Parent Program Manager: With a maximum of one parent program manager per community/site, the number of program manager respondents will be 4.

Community Representative: based on the predicted number of 10 community representatives per 4 communities/sites, the number of respondents will be 40.

Parent Curricula Implementers: it is expected that each school implementing the comprehensive approach (n = 22) will have one male and one female parent implementing the parent programs respondents will be (2 parents × 22 schools) 44 implementers. Please note that on the burden table the number of respondents is multiplied by the number of sessions in each parent program.

For example, the 6th grade program has 6 sessions and 264 (44 × 5) are listed.

The 7th grade program has three sessions and 132 (44 × 3) are listed.

The 8th grade parent curriculum is mailed to parents and, as such, does not involve implementers or session logs.

Student Curricula Implementers: based on the predicted number of seven student curricula implementers per grade per school (n = 22) that will be completing fidelity instruments, the total number of respondents will be 154 per grade. Please note that on the burden table, the number of respondents is multiplied by the number of sessions in each student curricula program.

For example, the 6th grade curriculum has 6 sessions, so a total of 924 total respondents are listed (154 × 6).

The 7th grade program has 7 sessions, so a total of 1078 total respondents are listed.

The 8th grade comprehensive program has 10 sessions and 1540 respondents are listed.

The 8th grade standard program has 10 sessions and 1540 total respondents are listed.

Brand Ambassadors: The Brand Ambassador Implementation Survey will be provided to each brand ambassador in each community. With a maximum of 20 brand ambassadors per community, the feedback form will be collected from a total of 80 brand ambassadors.

Communications Implementers (“Brand Ambassador Coordinators”): The Communications Campaign Tracking form will be provided to each brand ambassador coordinator in each community. With a maximum of one brand ambassador coordinator per community (n = 4), the feedback form will be collected from a total of 4 brand ambassador coordinators.

Student Program Master Trainer TA Form: With a maximum of 3 master trainers per community. There will be 12 master trainers. It is anticipated that they will receive up to 50 TA requests per year and complete the form 50 times.

There are no costs to the respondents other than their time. The total estimated annual burden hours are 44,978.

Estimated Annualized Burden Hours
Type of respondent | Form name | Number of respondents | Number of responses per respondent | Average burden per response (hours)
Student Program Participant | Student Outcome Survey Baseline Attachment D | 15,048 | 1 | 45/60
Student Program Participant | Student Outcome Survey Mid-Term Attachment F | 14,652 | 1 | 45/60
Student Program Participant | Student Outcome Survey Follow-up Attachment E | 14,256 | 1 | 45/60
School data extractor | School Indicators Attachment G: | 44 | 342 | 15/60
Parent Program Participant | Parent Outcome Baseline Survey Attachment H | 2,424 | 1 | 1
Parent Program Participant | Parent Outcome Follow-up Survey Attachment EEEE | 2,181 | 1 | 1
Educator | Educator Outcome Survey Attachment I | 1,584 | 2 | 30/60
Student Brand ambassador | Brand Ambassador Implementation Survey Attachment J | 80 | 2 | 20/60
School leadership | School Leadership Capacity and Readiness Survey Attachment K | 22 | 1 | 1
Parent Curricula Implementer | Parent Program Fidelity 6th Grade Session 1-Session 6 Attachment L-Q | 264 | 3 | 15/60
Parent Curricula Implementer | Parent Program Fidelity 7th Grade Session 1, 3, 5 Attachment R-T | 132 | 3 | 15/60
Student Curricula Implementer | Student Program Fidelity 6th Grade Session 1-Session 6 Attachment U-Z | 924 | 1 | 15/60
Student Curricula Implementer | Student Program Fidelity 7th Grade Session 1-Session 7 Attachment AA-GG | 1078 | 1 | 15/60
Student Curricula Implementer | Student Program Fidelity 8th Grade Session 1-Session 10 (comprehensive) Attachment HH-QQ | 1540 | 1 | 15/60
Communications Coordinator | Communications Campaign Tracking Attachment RR | 4 | 4 | 20/60
Local Health Department Representative | Local Health Department Capacity and Readiness Attachment SS | 16 | 1 | 2
Student Program Participant | Student participant focus group guide (time spent in focus group) Attachment ZZ | 80 | 1 | 1.5
Student Curricula Implementer | Student curricula implementer focus group guide (time spent in focus group) Attachment AAA | 80 | 1 | 1
Parent Curricula Implementer | Parent curricula implementer focus group guide (time spent in focus group) Attachment BBB | 80 | 1 | 1
Student Curricula Implementer | Safe Dates 8th Grade Session 1-Session 10 (standard) Attachment CCC-LLL | 1540 | 1 | 15/60
Student Master Trainer | Student program master trainer TA form Attachment DDDD | 12 | 50 | 10/60

Dated: February 21, 2012.
Kimberly S. Lane,
Reports Clearance Officer, Centers for Disease Control and Prevention.

[FR Doc. 2012-4561 Filed 2-24-12; 8:45 am]

BILLING CODE 4163-18-P